COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add services to the Procurement List that will be provided by nonprofit agencies employing persons who are blind or have other severe disabilities, and deletes products previously furnished by such agencies.

DATES: Comments Must Be Received On or Before: 5/27/2013.

ADDRESSES: Committee for Purchase From People Who Are Blind or Severely Disabled, 1401 S. Clark Street, Suite 10800, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to provide the services listed below from nonprofit agencies employing persons who are blind or have other severe disabilities.

The following services are proposed for addition to the Procurement List for production by the nonprofit agencies listed:

Services

Service Type/Location: Linen Rental Service, Court Services and Offender Supervision Agency (CSOSA), (offsite: 4701 Market St, Fredericksburg, VA), 633 Indiana Ave, Room 892 NW., Washington, DC

NPA: Rappahannock Goodwill Industries, Inc., Fredericksburg, VA

Contracting Activity: Court Services and Offender Supervision Agency, Washington, DC

Service Type/Location: Grounds Maintenance, USDA APHIS Veterinary Services, 6300 NW. 36th Street, Miami, FL

NPA: Goodwill Industries of South Florida, Inc., Miami, FL

Contracting Activity: Dept. of Agriculture, Animal and Plant Health Inspection Service, Minneapolis, MN

Service Type/Location: Switchboard Operation Service, Headquarters, Federal Bureau of Investigation, J. Edgar Hoover Building, 935 Pennsylvania Avenue, Washington, DC

NPA: Columbia Lighthouse for the Blind, Washington, DC

Contracting Activity: Federal Bureau of Investigation, Washington, DC

Deletions

The following products are proposed for deletion from the Procurement List:

Products

NSN: 7530-01-588-1145—DAYMAX System, 2012, Planner, 7-hole, Digital Camouflage

NSN: 7530-01-587-8929—DAYMAX System, 2012, JR Deluxe Planner, 6-hole, Black

NSN: 7530-01-587-8929L—DAYMAX System, 2012, JR Deluxe Planner, 6-hole, Black w/logo

NSN: 7530-01-587-8924L—DAYMAX System, 2012, LE Planner, 3-hole, Navy w/logo

NSN: 7530-01-587-8924—DAYMAX System, 2012, LE Planner, 3-hole, Navy

NSN: 7530-01-587-8923L—DAYMAX System, 2012, Planner, 7-hole, Desert Camouflage w/logo

NSN: 7530-01-587-8923—DAYMAX System, 2012, Planner, 7-hole, Desert Camouflage

NSN: 7530-01-587-8922—DAYMAX System, 2012, JR Deluxe Planner, 6-hole, Digital Camouflage, Black

NSN: 7530-01-587-8922L—DAYMAX System, 2012, JR Deluxe Planner, 6-hole, Digital Camouflage, Black w/logo

NSN: 7530-01-587-8921L—DAYMAX System, 2012, IE Planner, 3-hole, Navy w/logo

NSN: 7530-01-587-8921—DAYMAX System, 2012, IE Planner, 3-hole, Navy

NSN: 7530-01-587-8920L—DAYMAX System, 2012, DOD Planner, 3-hole, Burgundy

NSN: 7530-01-587-8920—DAYMAX System, 2012, DOD Planner, 3-hole, Burgundy

NSN: 7530-01-587-8919—DAYMAX System, 2012, GLE Planner, 7-hole, Navy

NSN: 7530-01-587-8919L—DAYMAX System, 2012, GLE Planner, 7-hole, Navy w/logo

NSN: 7530-01-587-8918L—DAYMAX System, 2012, Planner, 7-hole, Woodland Camouflage w/logo

NSN: 7530-01-587-8918—DAYMAX System, 2012, Planner, 7-hole, Woodland Camouflage

NSN: 7530-01-587-8144—DAYMAX System, 2012, GLE Planner, 7-hole, Burgundy

NSN: 7530-01-587-8144L—DAYMAX System, 2012, GLE Planner, 7-hole, Burgundy

NSN: 7530-01-587-8138—DAYMAX System, 2012, GLE Planner, 7-hole, Black

NSN: 7530-01-587-8138L—DAYMAX System, 2012, GLE Planner, 7-hole, Black w/logo

NSN: 7530-01-587-8133—DAYMAX System, 2012, LE Planner, 3-hole, Burgundy

NSN: 7530-01-587-8133L—DAYMAX System, 2012, LE Planner, 3-hole, Burgundy w/logo

NSN: 7530-01-587-8132—DAYMAX System, 2012, IE Planner, 3-hole, Black

NSN: 7530-01-587-8132L—DAYMAX System, 2012, IE Planner, 3-hole, Black w/logo

NSN: 7530-01-587-8131L—DAYMAX System, 2012, LE Planner, 3-hole, Black w/logo

NSN: 7530-01-587-8131—DAYMAX System, 2012, LE Planner, 3-hole, Black

NSN: 7530-01-587-8130L—DAYMAX System, 2012, IE Planner, 3-hole, Burgundy

NSN: 7530-01-587-8130—DAYMAX System, 2012, IE Planner, 3-hole, Burgundy

NSN: 7530-01-587-8125—DAYMAX System, 2012, JR Planner, 6-hole, Burgundy

NSN: 7530-01-587-8125L—DAYMAX System, 2012, JR Planner, 6-hole, Burgundy w/logo

NSN: 7530-01-587-8124L—DAYMAX System, 2012, JR Planner, 6-hole, Navy w/logo

NSN: 7530-01-587-8124—DAYMAX System, 2012, JR Planner, 6-hole, Navy

NSN: 7530-01-587-8123—DAYMAX System, 2012, JR Planner, 6-hole, Black

NSN: 7530-01-587-8123L—DAYMAX System, 2012, JR Planner, 6-hole, Black w/logo

NSN: 7510-01-587-8925—DAYMAX System, 2012, Week at a View, GLE, 7-hole

NSN: 7510-01-587-8201—DAYMAX System, 2012, Tabbed Monthly, GLE, 7-hole

NSN: 7510-01-587-8199—DAYMAX System, 2012, Tabbed Monthly, IE/LE, 3-hole

NSN: 7510-01-587-8198—DAYMAX System, 2012, Week at a View, IE/LE, 3-hole

NSN: 7510-01-587-8194—DAYMAX System, 2012, Month at a View, IE/LE, 3-hole

NSN: 7510-01-587-8184—DAYMAX System, 2012, Day at a View, GLE, 7-hole

NSN: 7510-01-587-8175—DAYMAX System, 2012, Month at a View, GLE, 7-hole

NSN: 7510-01-587-8170—DAYMAX System, 2012, Day at a View, IE/LE, 3-hole

NSN: 7510-01-587-8122—DAYMAX System, 2012, Tabbed Monthly, JR, 6-hole

NSN: 7510-01-545-4432—DAYMAX System, 2012, Calendar Pad, Type I

NSN: 7510-01-545-3771—DAYMAX System, 2012, Calendar Pad, Type II

NSN: 7530-01-545-3751—DAYMAX System, 2012, Appointment Refill

NSN: 7530-01-588-1144—Digital Camouflage Time Management System

NSN: 7530-01-573-4845—JR Deluxe Version TMS, Black

NSN: 7530-01-573-4845L—JR Deluxe Version TMS, Black w/Logo

NSN: 7530-01-573-4846L—JR Deluxe Version TMS, Digital Camouflage w/Logo

NSN: 7530-01-573-4846—JR Deluxe Version TMS, Digital Camouflage

NPA: The Easter Seal Society of Western Pennsylvania, Pittsburgh, PA

Contracting Activity: General Services Administration, New York, NY

Hydramax Hydration System

NSN: 8465-01-525-1560—Alpha, Black, 120 oz

NSN: 8465-01-525-1561—Alpha, Desert, 120 oz

NSN: 8465-01-524-2763—Mustang, Desert, 120 oz

NPA: The Lighthouse for the Blind, Inc. (Seattle Lighthouse), Seattle, WA

Contracting Activity: General Services Administration, Fort Worth, TX

Barry S. Lineback,
Director, Business Operations.

[FR Doc. 2013-09886 Filed 4-25-13; 8:45 am]

BILLING CODE 6353-01-P